DEPARTMENT OF COMMERCE

National Oceanic and Atmospheric Administration

[I.D. 030404C]

Endangered Species; Permit No. 1231

AGENCY: National Marine Fisheries Service (NMFS), National Oceanic and Atmospheric Administration (NOAA), Commerce.

ACTION: Receipt of application for modification.

SUMMARY: Notice is hereby given that Llewellyn M. Ehrhart, Department of Biology, University of Central Florida, 4000 Central Florida Blvd., Orlando, FL 32816-2368, has requested a modification to scientific research Permit No. 1231.

DATES: Written, telefaxed, or e-mail comments must be received on or before April 12, 2004.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may be submitted by facsimile at (301)713-0376, provided the facsimile is confirmed by hard copy submitted by mail and postmarked no later than the closing date of the comment period. Comments may also be submitted by e-mail. The mailbox address for providing email comments is NMFS.Pr1Comments@noaa.gov. Include in the subject line of the e-mail comment the following document identifier: Modification of Permit No. 1231.

FOR FURTHER INFORMATION CONTACT: Patrick Opay, (301)713-1401 or Carrie Hubard, (301)713-2289.

SUPPLEMENTARY INFORMATION: The subject modification to Permit No. 1231, issued on June 9, 2000 (65 FR 36666) is requested under the authority of the Endangered Species Act of 1973, as amended (16 U.S.C. 1531 et seq.) and the regulations governing the taking, importing, and exporting of endangered and threatened species (50 CFR 222-226).

Permit No. 1231 authorizes the permit holder to take listed sea turtles inhabiting the Indian River Lagoon system, Indian River County; the nearshore Atlantic Sabellariid worm rock reef system, Indian River County; and the Trident submarine basin in Port Canaveral, Brevard County, Florida. The study is helping to gather information regarding habitat requirements, seasonal distribution and abundance, movement and growth, feeding preferences, sex ratios and the prevalence and severity of fibropapilloma. The permit holder requests authorization to expand the ongoing population assessment project by tracking the movements of juvenile green (Chelonia mydas) sea turtles. This modification will allow the permit holder to obtain additional information about this species' movement patterns and its utilization of habitat. The permit holder proposes to attach a transmitter and time-depth-temperature recorder to 14 of the green sea turtles that are already authorized to be captured under the existing permit. Turtles will be also be sampled, measured, weighed, and tagged before being released. This research will take place in the waters within the Indian River Lagoon on the east coast of Florida for the remaining duration of the permit which expires on March 31, 2005.

Dated: March 8, 2004.
Stephen L. Leathery,
Chief, Permits, Conservation and Education Division, Office of Protected Resources, National Marine Fisheries Service.

[FR Doc. 04-5695 Filed 3-11-04; 8:45 am]

BILLING CODE 3510-22-S